ENVIRONMENTAL PROTECTION AGENCY

[OPP-34236; FRL-6759-5]

Organophosphate Pesticides; Availability of Interim Risk Management Decision Documents

AGENCY: Environmental Protection Agency (EPA).

ACTION: Notice.

SUMMARY: This notice announces the availability of the interim risk management decision documents for seven organophosphate and carbamate pesticides: Coumaphos, fenitrothion, mevinphos, oxamyl, phostebupirim, propetamphos, and tribufos. These decision documents have been developed as part of the public participation process that EPA and U.S. Department of Agriculture (USDA) are now using for involving the public in the reassessment of pesticide tolerances under the Food Quality Protection Act (FQPA), and the reregistration of individual organophosphate pesticides under the Federal Insecticide, Fungicide, and Rodenticide Act (FIFRA).

FOR FURTHER INFORMATION CONTACT: Carol Stangel, Special Review and Reregistration Division (7508C), Office of Pesticide Programs, Environmental Protection Agency, 1200 Pennsylvania Ave., NW., Washington, DC 20460; telephone number: (703) 308-8007; e-mail address: stangel.carol@epa.gov.

For technical questions on an IRED or TRED listed, contact the appropriate Chemical Review Manager:

Chemical Name | Case No. | Chemical Review Manager | Telephone No. | e-mail Address
Coumaphos | 0018 | Monica Alvarez | (703) 308-8026 | alvarez.monica@epa.gov
Fenitrothion | 0445 | Stephanie Nguyen | (703) 605-0702 | nguyen.stephanie@epa.gov
Mevinphos | 0250 | Joseph Nevola | (703) 308-8037 | nevola.joseph@epa.gov
Oxamyl | 0253 | Carmelita White | (703) 308-7038 | white.carmelita@epa.gov
Phostebupirim | (none) | Stacey Milan | (703) 305-2505 | milan.stacey@epa.gov
Propetamphos | 2550 | Gary Mullins | (703) 308-8044 | mullins.gary@epa.gov
Tribufos | 2145 | Anne Overstreet | (703) 308-8068 | overstreet.anne@epa.gov

SUPPLEMENTARY INFORMATION:

I. General Information

A. Does this Action Apply to Me?

This action is directed to the public in general, nevertheless, a wide range of stakeholders will be interested in obtaining the interim risk management decision documents for coumaphos, fenitrothion, mevinphos, oxamyl, phostebupirim, propetamphos, and tribufos, including environmental, human health, and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations”, “Regulations and Proposed Rules,” and then look up the entry for this document under the “Federal Register—Environmental Documents.” You can also go directly to the Federal Register listings at http://www.epa.gov/fedrgstr/. In addition, copies of the pesticide interim risk management decision documents released to the public may also be accessed at http://www.epa.gov/REDs.

2. In person. The Agency has established an official record for this action under docket control numbers OPP-34236 and OPP-34196B for coumaphos, OPP-34197B for fenitrothion, OPP-34215B for mevinphos, OPP-34227A for oxamyl, OPP-34186B for phostebupirim, OPP-34174C for propetamphos, and OPP-34148B for tribufos. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. What Action is the Agency Taking?

EPA has assessed the risks of coumaphos, fenitrothion, mevinphos, oxamyl, phostebupirim, propetamphos, and tribufos and reached an Interim Reregistration Eligibility Decision (IRED) or a Report on FQPA Tolerance Reassessment Progress and Interim Risk Management Decision for these organophosphate and carbamate pesticides. Provided that risk mitigation measures are adopted, or in some cases without additional risk mitigation, coumaphos, fenitrothion, mevinphos, oxamyl, phostebupirim, propetamphos, and tribufos fit into their own risk cups — their individual, aggregate risks are within acceptable levels.

The interim risk management decision documents for coumaphos, fenitrothion, mevinphos, phostebupirim, propetamphos, and tribufos were made through the organophosphate pesticide pilot public participation process, which increases transparency and maximizes stakeholder involvement in EPA's development of risk assessments and risk management decisions. The pilot public participation process was developed as part of the EPA-USDA Tolerance Reassessment Advisory Committee (TRAC), which was established in April 1998, as a subcommittee under the auspices of EPA's National Advisory Council for Environmental Policy and Technology. A goal of the pilot public participation process is to find a more effective way for the public to participate at critical junctures in the Agency's development of organophosphate pesticide risk assessments and risk management decisions. EPA and USDA began implementing this pilot process in August 1998, to increase transparency and opportunities for stakeholder consultation. The interim risk management decision for oxamyl, a carbamate pesticide, was made through a similar public participation process.

EPA worked extensively with affected parties to reach the decisions presented in the interim risk management decision documents, which conclude the pilot public participation process for coumaphos, fenitrothion, mevinphos, oxamyl, phostebupirim, propetamphos, and tribufos. As part of the pilot public participation process, numerous opportunities for public comment were offered as these interim risk management decision documents were being developed. The coumaphos, fenitrothion, mevinphos, oxamyl, phostebupirim, propetamphos, and tribufos interim risk management decision documents therefore are issued in final form, without a formal public comment period. The docket remains open, however, and any comments submitted in the future will be placed in the public docket.

The risk assessments for coumaphos, fenitrothion, mevinphos, oxamyl, phostebupirim, propetamphos, and tribufos were released to the public through the following notices published in the Federal Register:

1. Notices for coumaphos were published on September 2, 1999 (64 FR 48164) (FRL-6380-9) and April 26, 2000 (65 FR 24468) (FRL-6556-7).

2. Notices for fenitrothion were published on September 2, 1999 (64 FR 48164) (FRL-6380-9) and March 1, 2000 (65 FR 11050) (FRL-6494-8).

3. Notices for mevinphos were published on January 12, 2000 (65 FR 1867) (FRL-6486-9) and June 30, 2000 (65 FR 40631) (FRL-6595-6).

4. A notice for oxamyl was published on June 28, 2000 (65 FR 39898) (FRL-6595-3).

5. Notices for phostebupirim were published on May 26, 1999 (64 FR 28469) (FRL-6083-4) and March 27, 2000 (65 FR 16197) (FRL-6551-4).

6. Notices for propetamphos were published on January 15, 1999 (64 FR 2644) (FRL-6056-9) and December 1, 1999 (64 FR 67263) (FRL-6397-5).

7. Notices for tribufos were published on September 9, 1998 (63 FR 48213) (FRL-6030-2) and September 24, 1999 (64 FR 51755) (FRL-6385-2).

EPA's next step under FQPA is to complete a cumulative risk assessment and risk management decision encompassing all the organophosphate pesticides, which share a common mechanism of toxicity. The interim risk management decision documents on coumaphos, fenitrothion, mevinphos, phostebupirim, propetamphos, and tribufos cannot be considered final until this cumulative assessment is complete. The interim risk management decision document for oxamyl cannot be considered final until EPA completes a cumulative risk assessment and risk management decision for the carbamate pesticides.

When the cumulative risk assessment for all organophosphate pesticides has been completed, EPA will issue its final tolerance reassessment decision for coumaphos, fenitrothion, mevinphos, phostebupirim, propetamphos, and tribufos, and further risk mitigation measures may be needed. Similarly, when the cumulative risk assessment for all carbamate pesticides is completed, the Agency will issue its final tolerance reassessment decision and further risk mitigation may be needed for oxamyl.

List of Subjects

Environmental protection, Chemicals, Pesticides and pests.

Dated: December 8, 2000.
Lois Rossi,
Director, Special Review and Reregistration Division, Office of Pesticide Programs.

[FR Doc. 00-32033 Filed 12-14-00; 8:45 am]

BILLING CODE 6560-50-S